DEPARTMENT OF TRANSPORTATION

Federal Aviation Administration

14 CFR Part 71

[Docket No. FAA-2017-1146; Airspace Docket No. 17-AWP-16]

Proposed Amendment of Class D and Class E Airspace, and Removal of Class E Airspace; Lompoc, CA

AGENCY: Federal Aviation Administration (FAA), DOT.

ACTION: Notice of proposed rulemaking (NPRM).

SUMMARY: This action proposes to amend Class D airspace, Class E airspace extending upward from 700 feet above the surface, and remove Class E airspace designated as an extension at Vandenberg Air Force Base (AFB), Lompoc, CA. This action also proposes to modify Class E airspace extending upward from 700 feet above the surface at Lompoc Airport, Lompoc, CA, by enlarging the airspace and removing the part-time Notice to Airmen (NOTAM) status. This action would also amend the geographic coordinates of the airports to match the FAA's aeronautical database. This action is necessary for the safety and management of instrument flight rules (IFR) operations at these airports. An editorial change would be made removing the city associated with the airport name in the airspace designator for Vandenberg AFB, as well as removing exclusionary language from the description. Additionally, this action would replace the outdated term “Airport/Facility Directory” with the term “Chart Supplement”.

DATES: Comments must be received on or before April 9, 2018.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2017-1146; Airspace Docket No. 17-AWP-16, at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW, Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D, Class E airspace, and remove Class E airspace designated as an extension at Lompoc, CA, in support of IFR operations at Vandenberg AFB and Lompoc Airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2017-1146; Airspace Docket No. 17-AWP-16) and be submitted in triplicate to DOT Docket Operations (see ADDRESSES section for address and phone number).

Persons wishing the FAA to acknowledge receipt of their comments on this notice must submit with those comments a self-addressed, stamped postcard on which the following statement is made: “Comments to Docket No. FAA-2017-1146; Airspace Docket No. 17-AWP-16.” The postcard will be date/time stamped and returned to the commenter.

All communications received on or before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined between 8:00 a.m. and 4:30 p.m., Monday through Friday, except federal holidays, at the Northwest Mountain Regional Office of the Federal Aviation Administration, Air Traffic Organization, Western Service Center, Operations Support Group, 1601 Lind Avenue SW, Renton, WA 98057.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Proposal

The FAA is proposing an amendment to Title 14 Code of Federal Regulations (14 CFR) part 71 by enlarging Class D airspace, reducing Class E airspace extending upward from 700 feet above the surface, and removing Class E airspace designated as an extension at Vandenberg Air Force Base (AFB), Lompoc, CA, and also would amend Class E airspace extending upward from 700 feet above the surface and remove part-time NOTAM status at Lompoc Airport, Lompoc, CA.

Class D airspace would be enlarged to within a 5-mile radius (from a 4.3-mile radius) of Vandenberg AFB. Additionally, an editorial change would remove the city associated with the airport name in the airspace designation to comply with a recent change to FAA Order 7400.2L, dated October 12, 2017. An editorial change also would be made to the Class D airspace legal description replacing “Airport/Facility Directory” with “Chart Supplement”.

Class E airspace designated as an extension would be removed, as this airspace is not required to protect IFR arrival and departure aircraft at Vandenberg AFB.

Class E airspace extending upward from 700 feet above the surface at Vandenberg AFB would be modified to a 7.3-mile radius of the airport with extensions to 11 miles north, 12.5-miles southeast, and 11 miles south of the airport (from a 7.8-mile radius of the airport and within 1.8 miles each side of the Vandenberg AFB ILS localizer southeast course, extending from 7.8 miles to 10.3 miles southeast of the airport). The exclusionary language contained in the legal description would be removed to comply with FAA Order 7400.2L, Procedures for Handling Airspace Matters.

This action also would amend Class E airspace extending upward from 700 feet above the surface at Lompoc Airport, Lompoc, CA, by enlarging the airspace to within a 6.4-mile radius of the airport, and within 4 miles each side of the 090° bearing from the airport extending from the 6.4-mile radius to 12.8 miles east of the airport, and within 4 miles each side of the 113° bearing from the airport extending from the 6.4-mile radius to 20.4 miles southeast of the airport (from a 4.3-mile radius of the airport and within 4.3 miles each side of the Gaviota VORTAC 293° radial extending from the 4.3-mile radius to 10.9 miles west of the Gaviota VORTAC and within 4 miles each side of the 083° bearing from the Lompoc NDB to 8 miles east of the NDB. Also, the part-time NOTAM status would be removed, since this airspace is effective continuously.

Finally, this action would update the geographic coordinates of these airports to match the FAA's aeronautical database.

Class E airspace designations are published in paragraph 5000, 6004, and 6005, respectively, of FAA Order 7400.11B, dated August 3, 2017 and effective September 15, 2017, which is incorporated by reference in 14 CFR 71.1. The Class E airspace designation listed in this document will be published subsequently in the Order.

Regulatory Notices and Analyses

The FAA has determined that this proposed regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

AWP CA D Lompoc, CA [Amended]

Vandenberg AFB, CA

(Lat. 34°44′14″ N, long. 120°35′04″ W)

That airspace extending upward from the surface to and including 2,900 feet MSL within a 5-mile radius of Vandenberg AFB. This Class D airspace area is effective during the specific dates and times established in advance by a Notice to Airmen. The effective date and time will thereafter be continuously published in the Chart Supplement.

Paragraph 6004 Class E Airspace Designated as an Extension to a Class D or Class E Surface Area.

* * * * *

AWP CA E4 Lompoc, CA [Removed]

Paragraph 6005 Class E Airspace Areas Extending Upward From 700 Feet or More Above the Surface of the Earth.

* * * * *

AWP CA E5 Lompoc, CA [Amended]

Vandenberg AFB, CA

(Lat. 34°44′14″ N, long. 120°35′04″ W)

That airspace extending upward from 700 feet above the surface within a 7.3-mile radius of Vandenberg AFB from the airport 007° bearing clockwise to the airport 143° bearing, and within a 12.5-mile radius of the airport from the airport 143° bearing clockwise to the airport 168° bearing, and within an 11-mile radius of the airport from the airport 168° bearing clockwise to the airport 190° bearing, and within a 7.3-mile radius of the airport from the airport 190° bearing clockwise to the airport 343° bearing, and within an 11-mile radius of the airport from the airport 343° bearing clockwise to the airport 007° bearing.

AWP CA E5 Lompoc, CA [Amended]

Lompoc Airport, CA

(Lat. 34°39′56″ N, long. 120°28′03″ W)

That airspace extending upward from 700 feet above the surface within a 6.4-mile radius of Lompoc Airport, and within 4 miles each side of the 090° bearing from the airport extending to 12.8 miles east of the airport, and within 4 miles each side of the 113° bearing from the airport extending to 20.4 miles southeast of the airport.

Issued in Seattle, Washington, on February 7, 2018.
B.G. Chew,
Acting Manager, Operations Support Group, Western Service Center.

[FR Doc. 2018-03415 Filed 2-20-18; 8:45 am]

BILLING CODE 4910-13-P